DEPARTMENT OF THE INTERIOR

National Park Service

General Management Plan, Final Environmental Impact Statement, Zion National Park, Utah

AGENCY: National Park Service, Department of the Interior.

ACTION: Availability of final environmental impact statement and general management plan for Zion National Park.

SUMMARY: Pursuant to section 102(2)(C) the National Environmental Policy Act of 1969, the National Park Service announces the availability of a Final Environmental Impact Statement and General Management Plan (FEIS/GMP) for Zion National Park, Utah.

Dates: The Draft EIS/GMP was on public review from December 6, 1999 through February 29, 2000. Responses to public comment are addressed in the FEIS/GMP. A 30-day no-action period will follow publication of the Environmental Protection Agency's Notice of Availability of the FEIS/GMP in the Federal Register.

ADDRESSES: Copies of the FEIS/GMP are available from the Superintendent, Zion National Park, Springdale, Utah 84767-1099; Telephone (435) 772-0142. Public reading copies of the FEIS/GMP will be available for review at the following locations: Office of the Superintendent, Zion National Park, Springdale, Utah 84767-1099; Telephone (435) 772-0142.

Planning and Environmental Quality, Intermountain Support Office—Denver, National Park Service, 12795 W. Alameda Parkway, Lakewood, CO 80228, Telephone: (303) 969-2851.

Office of Public Affairs, National Park Service, Department of the Interior, 18th and C Streets NW., Washington, DC 20240, Telephone: (202) 208-6843.

SUPPLEMENTARY INFORMATION: The FEIS/GMP analyzes four alternatives for managing and using Zion National Park. The plan is intended to provide a foundation to help park managers guide park programs and set priorities for the management of Zion National Park over the next 20 years. The “no-action” alternative is a continuation of the present management course regarding the management of visitor use. The National Park Service's preferred alternative would emphasize management of resources and visitors, rather than providing new developments, and establishes a zoning framework to proactively address impacts resulting from visitor use. Alternative A would provide opportunities for more widespread and increased use of Zion, while still protecting resources and providing opportunities for a range of visitor experiences. Alternative B would focus on providing increased protection for park resources while still providing opportunities for a range of visitor experiences. All of the action alternatives would limit park visitation in some backcountry areas, recommend adjustments to the park boundary, and recommend five drainages and their tributaries in the park, and six tributaries on Bureau of Land Management lands adjacent to the park, be included in the national wild and scenic rivers system.

The FEIS/GMP in particular evaluates the environmental consequences of the preferred alternative and the other alternatives on natural resources (e.g., air and water quality, North Fork of the Virgin River floodplain, Virgin spinedace, Mexican spotted owl, desert bighorn sheep), natural sounds, the range of visitor experiences and activities, and the socioeconomic environment.

FOR FURTHER INFORMATION CONTACT: Superintendent, Zion National Park, at the above address and telephone number.

Dated: March 9, 2001.
R. Everhart,
Director, Intermountain Region, National Park Service.

[FR Doc. 01-11542 Filed 5-7-01; 8:45 am]

BILLING CODE 4310-70-P